ENVIRONMENTAL PROTECTION AGENCY

40 CFR Parts 52 and 81

[AZ-109-0051b; FRL-7233-4]

Approval and Promulgation of Implementation Plans and Designation of Areas for Air Quality Planning Purposes: Arizona

AGENCY: Environmental Protection Agency (EPA).

ACTION: Proposed rule.

SUMMARY: EPA is proposing to approve the moderate area plan and maintenance plan for the Bullhead City area in Arizona and grant a request submitted by the State to revise the boundaries and redesignate the area from nonattainment to attainment for the air quality standards for particulate matter with an aerodynamic diameter less than or equal to a nominal 10 micrometers (PM10).

DATES: Comments on this proposal must be received by July 26, 2002.

ADDRESSES: Please address your comments to Dave Jesson, Air Planning Office (AIR-2), Air Division, U.S. EPA, Region 9, 75 Hawthorne Street, San Francisco, CA 94105-3901. You may inspect and copy the rulemaking docket for this document at the EPA Region IX office. We may charge you a reasonable fee for copying parts of the docket.

Copies of the SIP materials are also available for inspection at the address listed below: Arizona Department of Environmental Quality, Office of Outreach and Information, First Floor, 3033 N. Central Avenue, Phoenix, AZ 85012-2809.

FOR FURTHER INFORMATION CONTACT: Dave Jesson, Air Planning Office (AIR-2), EPA Region 9, at (415) 972-3957 or: jesson.david@epa.gov.

SUPPLEMENTARY INFORMATION: In the Rules and Regulations section of this Federal Register, we are approving the moderate area plan and maintenance plan for the Bullhead City PM10 nonattainment area. We are also approving the State of Arizona's request to revise the area boundaries and redesignate the area to attainment. We are taking these actions without prior proposal because we believe that the revision and request are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: June 6, 2002.
Laura Yoshii,
Acting Regional Administrator, Region IX.

[FR Doc. 02-16144 Filed 6-25-02; 8:45 am]

BILLING CODE 6560-50-P